DEPARTMENT OF EDUCATION

Notice of Proposed Collection Requests; Comment Request

AGENCY: Department of Education.

ACTION: Public comment extension.

SUMMARY: On October 18, 2012, the U.S. Department of Education published a 60-day comment period notice in the Federal Register (include Vol. #, 77, Page 64111, Column 2) seeking public comment for an information collection entitled, “Annual Performance Report for the Gaining Early Awareness for Undergraduate Programs.” ED is extending the comment period to January 4, 2013 due to the public's inability to access the collection at the beginning of the comment period. Please provide comments through regulations.gov site. The Docket ID number is ED-2012-OPE-0036.

The Acting Director, Information Collection Clearance Division, Privacy, Information and Records Management Services, Office of Management, hereby issues this extension.

Dated: December 12, 2012.
Kate Mullan,
Acting Director, Information Collection Clearance Division, Privacy, Information and Records Management Services, Office of Management.

[FR Doc. 2012-30508 Filed 12-18-12; 8:45 am]

BILLING CODE 4000-01-P